DEPARTMENT OF COMMERCE

National Oceanic and Atmospheric Administration

[I.D. 030205B]

Taking of Marine Mammals Incidental to Commercial Fishing Operations; Atlantic Large Whale Take Reduction Plan Regulations; Public Hearings

AGENCY: National Marine Fisheries Service (NMFS), National Oceanic and Atmospheric Administration (NOAA), Commerce.

ACTION: Notice of public hearings.

SUMMARY: NMFS will hold 12 public hearings in Maine, Massachusetts, Rhode Island, New Jersey, Maryland, Virginia, North Carolina, and Florida in March and April 2005 for the purpose of answering questions and receiving public testimony on the Atlantic Large Whale Take Reduction Plan (ALWTRP) draft environmental impact statement (DEIS).

DATES: See SUPPLEMENTARY INFORMATION under the heading “Hearing Dates, Times, and Locations” for the dates and locations of the public hearings.

FOR FURTHER INFORMATION CONTACT: Diane Borggaard, NMFS, Northeast Region, 978-281-9300 ext. 6503; Barb Zoodsma, NMFS, Southeast Region, 904-321-2806; or Kristy Long, NMFS, Office of Protected Resources, 301-713-2322.

SUPPLEMENTARY INFORMATION: On February 25, 2005, the Environmental Protection Agency (EPA) published a Notice of Availability in the Federal Register announcing the availability of the DEIS for public review and comment. The public comment period on the DEIS is from February 25, 2005 to April 26, 2005. The public has the opportunity to submit comments on the document by any one of the following methods:

(1) NMFS/Northeast Region Website: http://www.nero.noaa.gov/nero/regs/com. Follow the instructions on the website for submitting comments.

(2) E-mail: whaledeis.comments@noaa.gov.

(3) Mail: Mary Colligan, Assistant Regional Administrator for Protected Resources, NMFS, Northeast Region, 1 Blackburn Dr., Gloucester, MA 01930, ATTN: ALWTRP DEIS.

(4) Facsimile (fax) to: 978-281-9394, ATTN: ALWTRP DEIS.

(5) Public hearings: submit oral comments at one of the DEIS public hearings.

NMFS has scheduled 12 public hearings on the DEIS. The purpose of these hearings is to provide an opportunity for the public to ask questions on the DEIS, as well as to submit formal oral testimony on the document during the comment period. Information on these hearings can also be found on the ALWTRP website at http://www.nero.noaa.gov/whaletrp/.

Hearing Dates, Times, and Locations

The dates, times, and locations of the hearings are as follows:

Monday, March 14, 2005 - Virginia Beach, VA 6-9 p.m. — Sheraton Oceanfront, 3501 Atlantic Ave, Virginia Beach, VA 23451

Tuesday, March 15, 2005 - Kill Devil Hills, NC 6-9 p.m. — Ramada Plaza/Nag's Head Beach, 1701 S. Virginia Dare Trail, Kill Devil Hills, NC 27948

Wednesday, March 16, 2005 - Wilmington, NC 6-9 p.m. — Ramada Inn Conference Center, 5001 Market Street, Wilmington, NC 28405

Monday, March 21, 2005 - Barnegat Light, NJ 6- 9 p.m. — Barnegat Light Volunteer Fire House, W. 10 Street & Central Avenue, Barnegat Light, NJ 08006

Tuesday, March 22, 2005 - Ocean City, MD 6-9 p.m. — Clarion Resort Fontainebleau Hotel, 10100 Coastal Highway, Ocean City, MD 21842

Wednesday, March 23, 2005 - Cape Canaveral, FL 6-9 p.m. — Radisson Resort at the Port, 8701 Astronaut Boulevard, Cape Canaveral, FL 32920

Monday, March 28, 2005 - Plymouth, MA 6-9 p.m. — Radisson Hotel - Plymouth Harbor, 180 Water Street, Plymouth, MA 02360

Tuesday, March 29, 2005 - Newport, RI 6-9 p.m. — Hotel Viking, 1 Bellevue Avenue, Newport, RI 02840

Thursday, March 31, 2005 - Gloucester, MA 6-9 p.m. — Massachusetts Division of Marine Fisheries, 30 Emerson Ave, Gloucester, MA 01930

Monday, April 4, 2005 - Ellsworth, ME 6-9 p.m. —Holiday Inn, 215 High Street, Ellsworth, ME 04605

Tuesday, April 5, 2005 - Rockport, ME 6-9 p.m. — Samoset Resort, 220 Warrenton Street, Rockport, ME 04856

Thursday, April 7, 2005 - Portland, ME 6 - 9 p.m. — Holiday Inn By the Bay, 88 Spring Street, Portland, ME 04101

Special Accommodations

These hearings are physically accessible to people with disabilities. Requests for sign language interpretation or other auxiliary aids should be directed to Diane Borggaard at 978-281-9300 ext. 6503 at least 7 working days prior to the hearing date.

Dated: March 7, 2005.
Donna S. Wieting,
Deputy Director, Office of Protected Resources, National Marine Fisheries service.

[FR Doc. 05-4984 Filed 3-11-05; 8:45 am]

BILLING CODE 3510-22-S